Proclamation 8925 of December 31, 2012

National Stalking Awareness Month, 2013

By the President of the United States of America

A Proclamation

Each year, millions of Americans face the fear, isolation, and danger of being victims of stalking. At some point in their lives, 1 in 6 women and 1 in 19 men will be stalked, and many of these crimes will go unreported and unprosecuted. During National Stalking Awareness Month, we rededicate ourselves to supporting victims of stalking and sharpen our resolve to bring perpetrators to justice.

Stalking is a pattern of unwanted contact that causes victims to fear for their safety or the safety of family members. It can include implied or explicit threats; harassment; or nonconsensual communication through phone calls, text messages, or emails. The perpetrator is usually someone the victim knows. Stalking behaviors may appear innocuous to outside observers, but victims often endure intense physical and emotional distress that affects every aspect of their lives. Many feel forced to move, or change jobs. Tragically, stalking tends to escalate over time, and it is sometimes followed by sexual assault or homicide.

My Administration remains committed to building a robust criminal justice response to stalking—one that holds offenders accountable, offers protection and support to all victims of violence, and empowers them to break the cycle of abuse. In January 2012, we held the first-ever White House stalking roundtable with survivors, law enforcement officers, victim advocates, and researchers. We have built partnerships with communities across the Nation to implement anti-stalking efforts. And we continue to support nonprofit organizations and local, State, and tribal governments as they develop more effective responses to violence against women—including direct services, crisis intervention, transitional housing, legal assistance to victims, court improvement, and training for law enforcement and courts.

We are also working to address the threat of cyberstalking. While advances in technology are making this crime more prevalent, they can also pose unique opportunities to address it. Communities are developing new tools that help connect victims to local services, and State governments are updating statutes to further protect people from cyberstalking. Through our Apps Against Abuse challenge, my Administration recognized mobile applications that are empowering people to defend themselves against dating violence, sexual assault, and stalking.

Thanks to the dedicated work of law enforcement officials, community leaders, advocates, organizations, and survivors, our country has made great strides in combating stalking. During National Stalking Awareness Month, we resolve to keep building on this momentum until no American lives in fear of this crime.

NOW, THEREFORE, I, BARACK OBAMA, President of the United States of America, by virtue of the authority vested in me by the Constitution and the laws of the United States, do hereby proclaim January 2013 as National Stalking Awareness Month. I call upon all Americans to recognize the signs of stalking, acknowledge stalking as a serious crime, and urge those impacted not to be afraid to speak out or ask for help. Let us also resolve to support victims and survivors, and to create communities that are secure and supportive for all Americans.

IN WITNESS WHEREOF, I have hereunto set my hand this thirty-first day of December, in the year of our Lord two thousand twelve, and of the Independence of the United States of America the two hundred and thirty-seventh.

[FR Doc. 2013-00204

Filed 1-4-13; 11:15 am]

Billing code 3295-F3